DEPARTMENT OF DEFENSE

Department of the Navy

[Docket ID USN-2010-0011]

Privacy Act of 1974; System of Records

AGENCY: Department of the Navy, DoD.

ACTION: Notice to alter a system of records.

SUMMARY: The Department of the Navy proposes to alter a system of records in its inventory of record systems subject to the Privacy Act of 1974 (5 U.S.C. 552a), as amended.

DATES: The changes will be effective on May 24, 2010 unless comments are received that would result in a contrary determination.

ADDRESSES: You may submit comments, identified by docket number and title, by any of the following methods:

• Federal Rulemaking Portal: http://www.regulations.gov. Follow the instructions for submitting comments.

• Mail: Federal Docket Management System Office, 1160 Defense Pentagon, Washington, DC 20301-1160.

Instructions: All submissions received must include the agency name and docket number for this Federal Register document. The general policy for comments and other submissions from members of the public is to make these submissions available for public viewing on the Internet at http://www.regulations.gov as they are received without change, including any personal identifiers or contact information.

FOR FURTHER INFORMATION CONTACT: Mrs. Miriam Brown-Lam (202) 685-6545.

SUPPLEMENTARY INFORMATION: The Department of the Navy systems of records notice subject to the Privacy Act of 1974, (5 U.S.C. 552a), as amended, has been published in the Federal Register and is available from Mrs. Miriam Brown-Lam, HEAD, FOIA/Privacy Act Policy Branch, the Department of the Navy, 2000 Navy Pentagon, Washington, DC 20350-2000.

The proposed systems reports, as required by 5 U.S.C. 552a(r) of the Privacy Act of 1974, as amended, were submitted on April 9, 2010, to the House Committee on Government Report, the Senate Committee on Homeland Security and Governmental Affairs, and the Office of Management and Budget (OMB) pursuant to paragraph 4c of Appendix I to OMB Circular No. A-130, “Federal Agency Responsibilities for Maintaining records About Individual,” dated February 8, 1996 (February 20, 1996; 61 FR 6427).

Dated: April 19, 2010.
Mitchell S. Bryman,
Alternate OSD Federal Register Liaison Officer, Department of Defense.

N01306-1

System name:

Job Advertisement/Career Management/Detailing System (September 25, 2006; 71 FR 55778).

Changes:

* * * * *

System name:

Delete entry and replace with “Career Management/Interactive Detailing System (CMS/ID) Records.”

System location:

Delete entry and replace with “SPAWAR Systems Center Atlantic (SSC LANT), 2251 Lakeshore Drive, New Orleans, LA 70145-3533; and all Navy afloat units.”

* * * * *

Categories of records in the system:

Delete entry and replace with “Limited personnel records in automated form displaying basic qualifications to include name, Social Security Number (SSN), enlisted service number, date of birth, rate, rank, record status, activity, e-mail address and phone number. This system primarily displays a listing of available billets from which a sailor can make their own request for or through their career counselor.”

Authority for maintenance of the system:

Delete entry and replace with “5 U.S.C. 301, Departmental Regulations; 10 U.S.C. 5013, Secretary of the Navy; and E.O. 9397 (SSN), as amended.”

Purpose(s):

Delete entry and replace with “To assist Navy officials and employees in the initiation, development, and implementation of policies pertaining to enlisted personnel assignment, placement, retention, career enhancement and motivation, and other career related matters to meet manpower allocations and requirements.”

* * * * *

Notification procedure:

Delete entry and replace with “Individuals seeking to determine whether this system of records contains information about themselves should address written inquiries to the Commander, Navy Personnel Command (PERS-455), 5720 Integrity Drive, Millington, TN 38055-0600.

The request should contain full name, Social Security Number (SSN) (and/or enlisted service number), rate, military status, and signature of the requester. The system manager may require an original signature or a notarized signature as a means of proving the identity of the individual requesting access to the records.”

Record access procedure:

Delete entry and replace with “Individuals seeking access to records about themselves contained in this system of records should address written inquiries to the Commander, Navy Personnel Command (PERS-455), 5720 Integrity Drive, Millington, TN 38055-0600.

The request should contain the full name, Social Security Number (SSN) (and/or enlisted service number), rate, military status, and signature of the requester. The system manager may require an original signature or a notarized signature as a means of proving the identity of the individual requesting access to the records.”

* * * * *

N01306-1

System name:

Career Management/Interactive Detailing System (CMS/ID) Records.

System location:

SPAWAR Systems Center Atlantic (SSC LANT), 2251 Lakeshore Drive, New Orleans, LA 70145-3533; and all Navy afloat units.

Categories of individuals covered by the system:

All Navy enlisted personnel: Active, Selected Reserve (SELRES), Full Time Support (FTS), and Junior Officer Submariners.

Categories of records in the system:

Limited personnel records in automated form displaying basic qualifications to include name, Social Security Number (SSN), enlisted service number, date of birth, rate, rank, record status, activity, e-mail address and phone number. This system primarily displays a listing of available billets from which a sailor can make their own request for or through their career counselor.

Authority for maintenance of the system:

5 U.S.C. 301, Departmental Regulations; 10 U.S.C. 5013, Secretary of the Navy; and E.O. 9397 (SSN), as amended.

Purpose(s):

To assist Navy officials and employees in the initiation, development, and implementation of policies pertaining to enlisted personnel assignment, placement, retention, career enhancement and motivation, and other career related matters to meet manpower allocations and requirements.

Routine uses of records maintained in the system, including categories of users and the purposes of such uses:

In additional to those disclosures generally permitted under 5 U.S.C. 552a(b) of the Privacy Act of 1974, these records contained therein may specifically be disclosed outside the DoD as a routine use pursuant to 5 U.S.C. 552a(b)(3) as follows:

The DoD `Blanket Routine Uses' that appear at the beginning of the Navy's compilation of systems of record notices apply to this system.

Policies and practices for storing, retrieving, accessing, retaining, and disposing of records in the system:

Storage:

Paper records and electronic storage media.

Retrievability:

Name, Social Security Number (SSN), rate/pay grade, activity, and/or record status within command.

Safeguards:

Computer processing facilities and terminals are located in restricted areas accessible only to authorized persons that are properly screened, cleared, and trained. Manual records and computer printouts are available only to authorized personnel having a need-to-know.

Retention and disposal:

Records are maintained until superseded or for a period of two years and then disposed of by burning or shredding.

System manager(s) and address:

Commander, Navy Personnel Command (PERS-455), 5720 Integrity Drive, Millington, TN 38055-0600.

Notification procedure:

Individuals seeking to determine whether this system of records contains information about themselves should address written inquiries to the Commander, Navy Personnel Command (PERS-455, 5720 Integrity Drive, Millington, TN 38055-0600.

The request should contain full name, Social Security Number (SSN) and/or enlisted service number, rate, military status, and signature of the requester. The system manager may require an original signature or a notarized signature as a means of proving the identity of the individual requesting access to the records.

Record access procedure:

Individuals seeking access to records about themselves contained in this system of records should address written inquiries to the Commander, Navy Personnel Command (PERS-455), 5720 Integrity Drive, Millington, TN 38055-0600.

The request should contain the full name, Social Security Number (SSN) and/or enlisted service number, rate, military status, and signature of the requester. The system manager may require an original signature or a notarized signature as a means of proving the identity of the individual requesting access to the records.

Contesting record procedures:

The Navy's rules for accessing records, and for contesting contents and appealing initial agency determinations are published in Secretary of the Navy Instruction 5211.5; 32 CFR part 701; or may be obtained from the system manager.

Records source categories:

Personnel service jackets, correspondence, official records of professional qualifications, and educational institutions.

Exemptions claimed for the system:

None.

[FR Doc. 2010-9385 Filed 4-22-10; 8:45 am]

BILLING CODE 5001-06-P